DEPARTMENT OF ENERGY

Federal Energy Regulatory Commission

[Docket No. CP11-504-000]

Transcontinental Gas Pipe Line Company, LLC; Notice of Request Under Blanket Authorization

Take notice that on June 30, 2011, Transcontinental Gas Pipe Line Company, LLC (Transco), Post Office Box 1396, Houston, Texas 77251-1396, filed in Docket No. CP11-504-000, a prior notice request pursuant to sections 157.205 and 157.216 of the Commission's regulations under the Natural Gas Act (NGA). Transco seeks authorization to abandon its Compressor Station 20 located in Refugio County, Texas. Transco proposes to perform these activities under its blanket certificate originally issued in Docket No. CP82-426-000 [20 FERC ¶ 62,420 (1982)], all as more fully set forth in the application which is on file with the Commission and open to public inspection.

Specifically, the facilities at issue are three 1,600 horsepower compressor units, two 1,760 horsepower compressor units, and a compressor building and foundation, located at milepost 170.25 on Transco's Mainline A in Refugio County, Texas. In addition, Transco intends to abandon metering facilities, suction and discharge piping, and other appurtenances.

The filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Nan Miksovsky, Transcontinental Gas Pipe Line Company, LLC, Post Office Box 1396, Houston, Texas 77251-1396, or by calling (713) 215-3422 (telephone).

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Dated: July 13, 2011.
Kimberly D. Bose,
Secretary.

[FR Doc. 2011-18913 Filed 7-26-11; 8:45 am]

BILLING CODE 6717-01-P